NUCLEAR REGULATORY COMMISSION

[Docket Nos. 50-250 and 50-251; NRC-2018-0074]

Florida Power & Light Company; Turkey Point Nuclear Generating Unit Nos. 3 and 4

AGENCY: Nuclear Regulatory Commission.

ACTION: Subsequent license renewal environmental report supplement; receipt.

SUMMARY: In response to the U.S. Nuclear Regulatory Commission's (NRC) Memorandum and Order, CLI-22-03 (February 24, 2022), the NRC received Environmental Report, Supplement 2, related to the subsequent renewal of Renewed Facility Operating License Nos. DPR-31 and DPR-41, which authorize Florida Power & Light Company (FPL, the applicant) to operate Turkey Point Nuclear Generating (Turkey Point) Unit Nos. 3 and 4. The Environmental Report, Supplement 2, addresses certain environmental impacts of operating Turkey Point for an additional period of 20 years beyond those dates. The NRC is currently reviewing the acceptability of the tendered Environmental Report, Supplement 2, for docketing.

DATES: The subsequent license renewal submittal referenced in this document was available on June 21, 2022.

ADDRESSES: Please refer to Docket ID NRC-2018-0074 when contacting the NRC about the availability of information regarding this document. You may obtain publicly available information related to this document using any of the following methods:

• Federal Rulemaking Website: Go to https://www.regulations.gov and search for Docket ID NRC-2018-0074. Address questions about Docket IDs to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

FOR FURTHER INFORMATION CONTACT: Tam Tran, Office of Nuclear Materials Safety and Safeguards, U.S. Nuclear Regulatory Commission, Washington, DC 20555-0001; telephone: 301-415-3617, email: Tam.Tran@nrc.gov.

SUPPLEMENTARY INFORMATION: The NRC has received an Environmental Report, Supplement 2, (ML22160A301) from Florida Power & Light Company, dated June 9, 2022, related to the subsequent renewal of the operating licenses for Turkey Point. The current subsequently renewed operating licenses for Turkey Point Unit Nos. 3 and 4 expire on July 19, 2032, and April 10, 2033, respectively. The Turkey Point units are Pressurized Water Reactors located in Homestead, Miami-Dade County, Florida. The acceptability for docketing of the tendered supplement to the Environmental Report will be the subject of subsequent Federal Register notices. A copy of the subsequent license renewal Environmental Report, Supplement 2, for Turkey Point, is also available for inspection near the site, at the Naranja Branch Library, 14850 SW 280 Street, Homestead, Florida 33032.

Dated: July 20, 2022.
For the Nuclear Regulatory Commission.
John M. Moses,
Deputy Director, Division of Rulemaking, Environmental, and Financial Support, Office of Nuclear Materials, Safety and Safeguards.

[FR Doc. 2022-15902 Filed 7-25-22; 8:45 am]

BILLING CODE 7590-01-P